DEPARTMENT OF THE INTERIOR

Bureau of Land Management

[CA-310-0777-XZ]

Resource Advisory Council Meeting

AGENCY: Northeast California Resource Advisory Council, Susanville, California, Bureau of Land Management, Interior.

ACTION: Notice of meeting location change.

SUMMARY: Pursuant to the authorities in the Federal Advisory Committees Act (Pub. L. 92-463) and the Federal Land Policy and Management Act (Pub. L. 94-579), the U.S. Bureau of Land Management's Northeast California Resource Advisory Council will meet Thursday and Friday, Sept. 18 and 19, 2008, in the Conference Room of the BLM Alturas Field Office, 708 West 12th St., Alturas, California. The meeting location is changed from an earlier announced location of the BLM Surprise Field Office, 602 Cressler St., Cedarville, California.

SUPPLEMENTARY INFORMATION: The original meeting notice was published in the Federal Register on Aug. 4, 2008 (Volume 73, No. 150, Notices, page 45242). Agenda items remain unchanged from the original announcement.

FOR ADDITIONAL INFORMATION: Tim Burke, BLM Alturas Field Manager, at (530) 233-4666, or Public Affairs Officer Joseph J. Fontana, (530) 252-5332.

Joseph J. Fontana,
Public Affairs Officer.

[FR Doc. E8-19238 Filed 8-19-08; 8:45 am]

BILLING CODE 4310-40-P